DEPARTMENT OF TRANSPORATION

Surface Transportation Board

[STB Finance Docket No. 34995]

Modoc Railway and Land Company LLC—Acquisition and Operation Exemption—in Lake County, OR

Modoc Railway and Land Company LLC (MR&L), a Class III rail carrier, has filed a verified notice of exemption under 49 CFR 1150.41 to acquire by lease, pursuant to an agreement with Lake County, an Oregon municipal entity, approximately 55.41 miles of rail line between milepost 456.89, in Alturas, CA, and milepost 512.3, in Lakeview, OR. MR&L indicates that Modoc Northern Railroad Company (MNRR), a Class III rail carrier, will be the operator of the property.

MR&L certifies that its projected revenues as a result of the transaction will not result in the creation of a Class II or Class I rail carrier, and further certifies that its annual revenues will not exceed $5 million.

The earliest this transaction may be consummated is the March 18, 2007 effective date of the exemption (30 days after the exemption was filed).¹

¹ MR&L had originally indicated a consummation date of March 1, 2007. MR&L has been informed by a Board staff member that consummation may not take place until March 18, 2007.

This transaction is related to a concurrently filed notice of exemption in STB Finance Docket No. 34996, Modoc Northern Railroad Company—Acquisition and Operation Exemption—Lake County, OR, wherein MNRR seeks to acquire and operate approximately 55.41 miles of rail line between milepost 456.89, in Alturas, CA, and milepost 512.3, in Lakeview.²

² MR&L owns, and MNRR operates, the adjacent rail line between milepost 552.0 near Texum, OR, and milepost 445.6 near McArthur, CA, and the Lakeview Branch between milepost 456.89 and milepost 458.60 at Alturas. See Modoc Northern Railroad Company-Operation Exemption-Union Pacific Railroad Company, STB Finance Docket No. 34768 (STB served Nov. 18, 2005), and Modoc Railway and Land Company LLC-Acquisition Exemption-Union Pacific Railroad Company, STB Finance Docket No. 34769 (STB served Nov. 18, 2005).

If the verified notice contains false or misleading information, the exemption is void ab initio. Petitions to revoke the exemption under 49 U.S.C. 10502(d) may be filed at any time. The filing of a petition to revoke will not automatically stay the transaction. Petitions for stay must be filed no later than March 9, 2007 (at least 7 days before the exemption becomes effective).

An original and 10 copies of all pleadings, referring to STB Finance Docket No. 34995, must be filed with the Surface Transportation Board, 395 E Street, SW., Washington, DC 20423-0001. In addition, a copy of each pleading must be served on Dennis C. Farley, Lear & Lear, L.L.P., 299 South Main, Suite 2200, Wells Fargo Center, Salt Lake City, UT 84111.

Board decisions and notices are available on our Web site at http://www.stb.dot.gov.

Decided: February 26, 2007.
By the Board, David M. Konschnik, Director, Office of Proceedings.
Vernon A. Williams,
Secretary.

[FR Doc. E7-3706 Filed 3-1-07; 8:45 am]

BILLING CODE 4915-01-P